DEPARTMENT OF HEALTH AND HUMAN SERVICES

Centers for Disease Control and Prevention

Notice of Public Input Opportunity

AGENCY: Centers for Disease Control and Prevention (CDC), Department of Health and Human Services (HHS).

SUMMARY: The National Institute for Occupational Safety and Health (NIOSH) of the Centers for Disease Control and Prevention (CDC) announces the following:

Availability of opportunity for the Public to Provide Input on a proposed Web based document:

“NIOSH Safety and Health Topic: Chest Radiography”

Notice: The National Institute for Occupational Safety and Health (NIOSH), acting on behalf of the Secretary of Health and Human Services (HHS), is responsible for prescribing the manner in which radiographs are read and classified for the chest x-ray program available to coal miners under the Federal Mine Safety and Health Act, 30 U.S.C. 843; 42 CFR part 37. In carrying out this responsibility, NIOSH issues B Reader certifications to physicians who demonstrate proficiency in the classification of chest radiographs for the pneumoconioses using the International Labour Office (ILO) Classification System. NIOSH uses these B Readers in its Coal Workers Health Surveillance Program. B Readers are also employed in a variety of other clinical, research and compensation settings. NIOSH-certified B Readers use the internationally-recognized ILO system to classify chest radiographs for the presence and severity of pulmonary parenchymal and pleural changes potentially caused by exposure to dusts such as asbestos, silica, and coal mine dust. NIOSH requested comments on its previous draft Web pages: “Recommendations for Applying the International Labour Office (ILO) International Classification of Radiographs of Pneumoconioses in Medical Diagnosis, Research and Population Surveillance, Worker Health Monitoring, Government Program Eligibility, and Compensation Settings” and “Ethical Considerations for B Readers” [Federal Register, Vol. 70, No. 221 (Thursday, November 17, 2005/Notices at 69765-6)]. Based on the comments it received, NIOSH has developed a revised and expanded Web site that includes materials from those web pages and provides more information about radiographic reading and the ILO system, including recommendations for use of the ILO system in different settings.

We are specifically seeking public comment for the draft revised Web site:

“NIOSH Safety and Health Topic: Chest Radiography”

We are particularly interested in receiving public comment on the following Web page and associated pages located within the larger Web site: “Recommended Practices for Reliable Classification of Chest Radiographs by B Readers.”

The Web site “NIOSH Safety and Health Topic: Chest Radiography” can be found at http://www.cdc.gov/niosh/topics/chestradiography/.

Please review and submit your comments on this document to nioshdocket@cdc.gov. If you would prefer to have a hard copy rather than electronic, please contact NIOSH at this same e-mail address, and we will be happy to fax or mail copies of the documents to you.

The documents will remain available for comment until October 1, 2006. After that date, NIOSH will consider all the comments submitted and make appropriate revisions to the document before posting a final version on its Web site.

FOR FURTHER INFORMATION CONTACT: David N. Weissman, MD, CDC/NIOSH, Division of Respiratory Disease Studies, Mailstop H-2900, 1095 Willowdale Road, Morgantown, WV 26505, 304-285-5749.

Information requests can also be submitted by e-mail to nioshdocket@cdc.gov.

Dated: May 26, 2006.
John Howard,
Director, National Institute for Occupational Safety and Health, Centers for Disease Control and Prevention.

[FR Doc. E6-8653 Filed 6-2-06; 8:45 am]

BILLING CODE 4163-19-P